DEPARTMENT OF LABOR

Employment and Training Administration

[TA-W-58,341]

Alene Candles, Inc./Wizard Candles, Inc.; Including On-Site Leased Workers of Placement Pros, Valley Employment, and ET Staffing; Putnam, CT; Amended Certification Regarding Eligibility To Apply for Worker Adjustment Assistance and Alternative Trade Adjustment Assistance

In accordance with section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 13, 2006, applicable to workers of Alene Candles, Inc., including on-site leased workers of Placement Pros, Valley Employment, and ET Staffing, Putnam, Connecticut. The notice was published in the Federal Register on January 31, 2006 (71 FR 5072).

At the request of the State agency, the Department reviewed the certification for workers of the subject firm. The workers were engaged in the production of candles.

Information shows that Alene Candles, Inc. purchased Wizard Candles, Inc. in 2004. Workers separated from employment at the subject firm during 2004 had their wages reported under a separate unemployment insurance (UI) tax account for Wizard Candles, Inc.

Accordingly, the Department is amending the certification to correct the name of the subject firm to read Alene Candles, Inc./Wizard Candles, Inc.

The intent of the Department's certification is to include all workers of Alene Candles, Inc./Wizard Candles, Inc., including on-site leased workers of Placement Pros, Valley Employment, and ET Staffing, Putnam, Connecticut, who were adversely affected by increased customer imports.

The amended notice applicable to TA-W-58,341 is hereby issued as follows:

All workers of Alene Candles, Inc./Wizard Candles, Inc., Putnam, Connecticut, including workers of Placement Pros, Valley Employment, and ET Staffing working on site at Alene Candles, Inc./Wizard Candles, Inc., Putnam, Connecticut, who became totally or partially separated from employment on or after November 14, 2004, through January 13, 2008, are eligible to apply for adjustment assistance under Section 223 of the Trade Act of 1974, and are also eligible to apply for alternative trade adjustment assistance under Section 246 of the Trade Act of 1974.

Signed at Washington, DC this 8th day of February 2006.
Linda G. Poole
Certifying Officer, Division of Trade Adjustment Assistance.

[FR Doc. E6-3069 Filed 3-2-06; 8:45 am]

BILLING CODE 4510-30-P